DEPARTMENT OF DEFENSE

Office of the Secretary

Science and Technology Reinvention Laboratory Personnel Management Demonstration Project, Department of Navy, Office of Naval Research (ONR); Proposed Amendment and Corrections

AGENCY: Office of the Deputy Under Secretary of Defense (Civilian Personnel Policy) (DUSD (CPP)), Department of Defense (DoD).

ACTION: Notice of proposed amendments and administrative corrections to the ONR Demonstration Project (75 FR 77380-77447, December 10, 2010).

SUMMARY: On December 10, 2010 (75 FR 77380-77447), DoD published a notice of approval of a personnel management demonstration project for eligible ONR employees. Within that notice, there were several typographical errors discovered. Additionally, after the publication of the notice and implementation of the demonstration project, ONR determined that for effective personnel management practices, amendments need to be made to provide better consistency in the use of the extended probationary periods for newly hired employees, and to more thoroughly cite the waivers to regulations required to apply these extended probationary periods. Amendments must also be made to better define minimally successful performance for assignments involving displacement, and to remove the requirement that advancements in certain Pay Bands need Executive Director's approval. This notice makes the required corrections and amendments.

DATES: This amendment may not be implemented until a 30-day comment period is provided, comments addressed, and a final Federal Register notice published. To be considered, written comments must be submitted on or before July 10, 2013 Authorities impacted by this Federal Register notice may not be applied retroactively and will be applied only to those personnel hired on/after the publication date of this Federal Register notice.

ADDRESSES: Send comments on or before the comment due date by mail to Mr. William T. Cole, Defense Civilian Personnel Advisory Services, Non-Traditional Personnel Programs (DCPAS-NTPP), Suite 05F16, 4800 Mark Center, Alexandria, VA 22350-1100; by email to william.cole@cpms.osd.mil; or by fax to 571-372-1704.

FOR FURTHER INFORMATION CONTACT: Office of Naval Research: Ms. Margaret J. Mitchell, Director, Human Resources Office, Office of Naval Research, 875 North Randolph Street, Code 01HR, Arlington, VA 22203; Margaret.J.Mitchell@navy.mil.

DoD: Mr. Todd Cole, Defense Civilian Personnel Advisory Services, Non-Traditional Personnel Programs (DCPAS-NTPP), Suite 05F16, 4800 Mark Center Drive, Alexandria, VA 22350-1100; william.cole@cpms.osd.mil.

Corrections

1. On page 77390, section III.F. Extended Probationary Period, replace the section with: All current laws and regulations for the current probationary period are retained with the exception of new employees hired under the demonstration. Candidates hired into the Administrative Support (NC) career track will serve a one year probationary period; candidates hired into the Administrative Specialist and Professional (NO) career track will serve a two year probationary period; and candidates hired into the Science and Engineering Professional (NP) career track will serve a three year probationary period. Employees with veterans' preference will maintain their rights under current law and regulation.

Reason for amendment: This change allows consistent application of the extended probationary period, and better aligns the probationary period with the time needed to demonstrate satisfactory performance within each individual career track.

2. On page 77402, figure number in footer on bottom of “Eligibility Chart for Pay Increases”: Replace “Figure 10. Eligibility Chart for Pay Increases” with “Figure 9. Eligibility Chart for Pay Increases.”

Reason for change: To correct typographical errors in the figure number.

3. On page 77403, Section IV.C.8.b. Advancements in Pay Band Which Must be Approved by the Executive Director, replace the section with:

Advancement to (1) pay bands outside target pay bands or established position management criteria, and (2) Pay Band V of the S&E Professional Career Track require approval by the Executive Director without further delegation. Details regarding the process for nomination and consideration, format, selection criteria, and other aspects of this process will be addressed in the standard operating procedures and/or related instruction.

Reason for amendment: Removing the requirement of Executive Director approval for advancements in Pay Bands IV and V of the Administrative Specialist and Professional Career Track, and Pay Band IV of the S&E Career Track provides department heads and senior leadership a path to advance employees appropriately through the pay pool panel process. Since the determination of suitability for advancement rests with the department heads and other senior leadership (including the pay pool managers), this change simply places the authority to approve such decisions with those determining their appropriateness, while retaining the Pay Pool Review Authority's full authority and responsibility through the Pay Pool Panel review process.

4. On page 77416, right hand column, third block Part 351, subpart G, section 351.701—Assignment Involving Displacement, replace paragraph (a) with: Waive to allow minimally successful or equivalent to be defined as an employee who does not have a current written notice of unacceptable performance.

Reason for amendment: This change is to prevent any possible categorization of an employee as “unacceptable” in terms of RIF, when that employee is overcompensated as a result of coming off of maintained pay and does not receive any increase during the CCS payout, but whose performance was acceptable.

5. On page 77416, right hand column, third block, last line: Replace “(e)(I)” with “(e)(1)”.

Reason for change: To correct typographical errors.

6. On page 77418, left hand column, second block: Replace “Chapter 52, subpart I, section 5301—Pay Policy. Waive in entirety.” with “Chapter 53, subchapter I, section 5301—Pay Policy. Waive in entirety.”

Reason for change: To correct typographical errors.

7. On page 77418, left hand column, second block: Replace “Chapter 53, subpart I, section 5303—Special Pay Authority. Waive in entirety.” with “Chapter 53, subchapter I, section 5305—Special Pay Authority. Waive in entirety.”

Reason for change: To correct typographical errors.

8. On page 77419, left hand column, third block: Replace “Chapter 55, section 5455(d)—Hazardous Duty Differential” with “Chapter 55, section 5545(d)—Hazardous Duty Differential”

Reason for change: To correct typographical errors.

9. On page 77419, left hand column, last block (continues on top of page 77420) Appendix B: Required Waivers to Laws and Regulations chart replace all of the material in that block with: “Chapter 75, sections 7501(1), 7511(a)(1)(A)(ii), and 7511(a)(1)(C)(ii); Adverse Actions—Definitions. Waived to the extent necessary to allow extended probationary periods and to permit termination during the extended probationary period without using adverse action procedures for those individuals serving a probationary period under an initial appointment except for those with veterans' preference.”

Reason for amendment: This amendment allows ONR to fully utilize its flexibility of extended probationary periods by permitting terminations during these extended probationary periods.

10. On page 77420, right hand column, first block Appendix B: Required Waivers to Laws and Regulations chart, add this paragraph to the block (currently blank): “Part 752, sections, 752.201 and 752.401: Principal statutory requirements and coverage. Waived to the extent necessary to allow extended probationary periods and to permit termination during the extended probationary period without using adverse action procedures for those individuals serving a probationary period under an initial appointment except those with veterans' preference.”

Reason for amendment: This amendment allows ONR to fully utilize its flexibility of extended probationary periods by permitting terminations during these extended probationary periods.

11. On page 77420, right hand column, second block: Delete the three references to “Part 572” and replace with “Part 752.”

Reason for change: To correct typographical errors.

12. On page 77420, right hand column, second block: Replace “subpart A” with “subpart D”

Reason for change: To correct typographical errors.

13. On page 77420, right hand column, third block, first paragraph, delete “subpart B” and replace with “subpart D.”

Reason for change: To correct typographical errors.

14. On page 77429, title (header data): Replace “ELEMENT 2. PROGRAM EXECUTION AND LIASION” with “ELEMENT 2. PROGRAM EXECUTION AND LIAISON.”

Reason for change: To correct a typo.

Dated: June 5, 2013.
Aaron Siegel,
Alternate OSD Federal Register Liaison Officer, Department of Defense.

[FR Doc. 2013-13660 Filed 6-7-13; 8:45 am]

BILLING CODE 5001-06-P